DEPARTMENT OF AGRICULTURE

Animal and Plant Health Inspection Service

[Docket No. APHIS-2011-0089]

Oral Rabies Vaccine Trial; Availability of an Environmental Assessment and Finding of No Significant Impact

AGENCY: Animal and Plant Health Inspection Service, USDA.

ACTION: Notice.

SUMMARY: We are advising the public that an environmental assessment and finding of no significant impact have been prepared by the Animal and Plant Health Inspection Service relative to an oral rabies vaccination field trial in West Virginia. Based on its finding of no significant impact, the Animal and Plant Health Inspection Service has determined that an environmental impact statement need not be prepared.

FOR FURTHER INFORMATION CONTACT: Dr. Dennis Slate, Rabies Program Coordinator, Wildlife Services, APHIS, 59 Chennell Drive, Suite 7, Concord, NH 03301; (603) 223-9623. To obtain copies of the environmental assessment or finding of no significant impact, contact Ms. Beth Kabert, Environmental Coordinator, Wildlife Services, 140-C Locust Grove Road, Pittstown, NJ 08867; (908) 735-5654, fax (908) 735-0821, or e-mail beth.e.kabert@aphis.usda.gov.

SUPPLEMENTARY INFORMATION:

Background

The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On August 8, 2011, we published in the Federal Register (76 FR 48119-48120, Docket No. APHIS-2011-0089) a notice ¹ in which we announced the availability, for public review and comment, of an environmental assessment (EA) that examined the potential environmental impacts associated with the proposed field trial to test the safety and efficacy of an experimental oral rabies vaccine for wildlife in West Virginia.

¹ To view the notice, EA, risk assessments, the comments we received, and the FONSI, go to http://www.regulations.gov/fdmspublic/component/main?main=DocketDetail&d=APHIS-2011-0089.

We solicited comments on the EA for 30 days ending September 7, 2011. We received 13 comments by that date. They were from private citizens and representatives of public health, agriculture, and natural resources agencies in the United States and Canada. Nine of the commenters fully supported the proposed field trial. The remaining commenters presented specific questions or suggestions regarding the field trial or the experimental vaccine. All the comments, and APHIS' responses to those comments, are presented in an appendix to the EA (see footnote 1).

In this document, we are advising the public of our finding of no significant impact (FONSI) regarding the implementation of a field trial to test the safety and efficacy of the AdRG1.3 wildlife rabies vaccine in Greenbrier, Summers, and Monroe Counties, WV, including portions of U.S. Forest Service National Forest System lands, but excluding Wilderness Areas. The finding, which is based on the EA, reflects our determination that the distribution of this experimental wildlife rabies vaccine will not have a significant impact on the quality of the human environment.

The EA and FONSI may be viewed on the APHIS Web site at http://www.aphis.usda.gov/regulations/ws/ws_nepa_environmental_documents.shtml and on the Regulations.gov Web site (see footnote 1). Copies of the EA and FONSI are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained as described under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 8th day of September 2011.
Kevin Shea,
Acting Administrator, Animal and Plant Health Inspection Service.

[FR Doc. 2011-23587 Filed 9-13-11; 8:45 am]

BILLING CODE 3410-34-P